NATIONAL FOUNDATION ON THE ARTS AND THE HUMANITIES

National Endowment for the Arts; Arts Advisory Panel

Pursuant to Section 10(a)(2) of the Federal Advisory Committee Act (Pub. L 92-463), as amended, notice is hereby given that eleven meetings of the Arts Advisory Panel to the National Council on the Arts will be held at the Nancy Hanks Center, 1100 Pennsylvania Avenue, NW., Washington, DC 20506 as follows (ending times are approximate):

Folk and Traditional Arts (application review): June 1-2, 2011 in Room 716. This meeting, from 9 a.m. to 6 p.m. on June 1st and from 9 a.m. to 5:30 p.m. on June 2nd, will be closed.

Local Arts Agencies (application review): June 7, 2011 in Room 730. This meeting, from 9 a.m. to 5:30 p.m., will be closed.

Media Arts (application review): June 7-8, 2011 in Room 716. This meeting, from 9 a.m. to 5:30 p.m. on June 7th and from 9 a.m. to 3:30 p.m. on June 8th, will be closed.

Media Arts (application review): June 9-10, 2011 in Room 716. This meeting, from 9 a.m. to 5:30 p.m. on June 9th and from 9 a.m. to 4 p.m. on June 10th, will be closed.

Theater (application review): June 7-10, 2011 in Room 714. This meeting, from 9 a.m. to 5:30 p.m. on June 7th, from 9 a.m. to 6 p.m. on June 8th and 9th, and from 9 a.m. to 3 p.m. on June 10th, will be closed.

Museums (application review): June 13-15, 2011 in Room 716. This meeting, from 9 a.m. to 5:30 p.m. on June 13th, from 9 a.m. to 6 p.m. on June 14th, and from 9 a.m. to 3:30 p.m. on June 15th, will be closed.

Presenting (application review): June 16-17, 2011 in Room 716. This meeting, from 9 a.m. to 5:30 p.m. on June 16th and from 9 a.m. to 1:30 p.m. on June 17th, will be closed.

Arts Education (application review): June 20-22, 2011 in Room 627. This meeting, from 9 a.m. to 6 p.m. on June 20th and 21st and from 9 a.m. to 3 p.m. on June 22nd, will be closed.

Music (application review): June 27-30, 2011 in Room 714. This meeting, from 9 a.m. to 5:30 p.m. on June 27th-29th and from 9 a.m. to 5 p.m. on June 30th, will be closed.

Artist Communities (application review): June 27-28, 2011 in Room 716. This meeting, from 9 a.m. to 5:30 p.m. on June 27th and from 9 a.m. to 4 p.m. on June 28th, will be closed.

Dance (application review): June 28-July 1, 2011 in Room 716. This meeting, from 9 a.m. to 6 p.m. each day, will be closed.

The closed portions of meetings are for the purpose of Panel review, discussion, evaluation, and recommendations on financial assistance under the National Foundation on the Arts and the Humanities Act of 1965, as amended, including information given in confidence to the agency. In accordance with the determination of the Chairman of February 15, 2011, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202/682-5691.

Dated: May 10, 2011.
Kathy Plowitz-Worden,
Panel Coordinator, Panel Operations, National Endowment for the Arts.

[FR Doc. 2011-11775 Filed 5-12-11; 8:45 am]

BILLING CODE 7537-01-P